GENERAL SERVICES ADMINISTRATION

[Notice-MRB-2024-04; Docket No. 2024-0002; Sequence No. 32]

Notice of a Federal Advisory Committee Call for Nominations

AGENCY: Office of Government-wide Policy (OGP), General Services Administration (GSA).

ACTION: Notice.

SUMMARY: The GSA Acquisition Policy Federal Advisory Committee (hereinafter “the Committee” or “the GAP FAC”), a discretionary advisory committee, is announcing a call for membership nominations.

DATES: GSA will consider nominations that are submitted via email by August 15, 2024.

ADDRESSES: Please submit nominations to Stephanie Hardison or David Cochennic by email to gapfac@gsa.gov.

FOR FURTHER INFORMATION CONTACT: Stephanie Hardison, Designated Federal Officer, OGP, 202-258-6823, or David Cochennic, OGP, 904-403-0829, or email: gapfac@gsa.gov.

SUPPLEMENTARY INFORMATION: This notice announces a call for membership nominations to the GAP FAC.

On July 3, 2024, GSA renewed the GAP FAC which it had established on July 6, 2022. The renewed GAP FAC shall be composed of no less than ten (10) and no more than thirty (30) Federal and non-Federal members, with expertise in acquisition and emerging technology. We are seeking the following skill sets to support our new focus area: Artificial Intelligence and Data Learning, Programming and Software Development, Data Science and Machine Learning, Cloud Computing and Infrastructure, Big Data and Analytics, and Cybersecurity. GSA continues to be interested in perspectives of small business, science, manufacturing, engineering, academia, technology, law, State and local governments, independent associations or councils, and other appropriate industry sectors along with perspectives across the US Government. GSA values opportunities to increase participation in its federal advisory committees.

Advisory Committee

The GAP FAC will operate in accordance with the provisions of the Federal Advisory Committee Act (FACA), as amended(5 U.S.C. 1001-1013). The GAP FAC will be solely advisory in nature. Consistent with FACA and its requirements, each meeting of the GAP FAC will be open to the public unless otherwise notified in accordance with the Government in the Sunshine Act. A notice of each meeting will be published in the Federal Register at least fifteen (15) days in advance of the meeting. Records will be maintained for each meeting and made available for public inspection. All activities of the GAP FAC will be conducted in an open, transparent, and accessible manner.

Members will be designated as Regular Government Employees (RGEs), Special Government Employees (SGEs), or Representative members as appropriate. GSA's Office of General Counsel will assist the Designated Federal Officers (DFO) to determine the advisory committee member designations.

In general, SGEs are experts in their field who provide Federal advisory committees with their own best independent judgment based on their individual expertise.

Representatives are members selected to represent a specific point of view held by a particular group, organization, or association. Members who are full-time or permanent part-time Federal civilian officers or employees shall be appointed to serve as Regular Government Employee (RGE) members. In accordance with OMB Final Guidance published in the Federal Register on October 5, 2011, and revised on August 13, 2014, federally registered lobbyists may not serve on the Committee in an individual capacity to provide their own individual best judgment and expertise, such as SGEs and RGEs members. This ban does not apply to lobbyists appointed to provide the Committee with the views of a particular group, organization, or association, such as a representative member.

Committee Focus

The focus areas outlined are intended to serve as general guidelines. These topics will be developed into more detailed and actionable priorities.

• Identifying regulatory and policy changes to enable use of generative AI in federal acquisition.

• Identifying methods that enable GSA acquisition policy to strengthen the role of emerging disruptive technologies in the acquisition process.

• Prioritizing cybersecurity and accessibility considerations, to ensure a secure and equitable environment.

• Using emerging technology and data to streamline and optimize acquisition processes; without sacrificing quality or oversight.

• Identifying guardrails to safeguard the acquisition of disruptive technology—to ensure clarity on requirements and business value.

Member Nominations

In the selection of members for the advisory committee, GSA will follow the process in GSA Order ADM 5420.40E, GSA Federal Advisory Committee Management Program, and consider a cross-section of those directly affected, interested, and qualified, as appropriate to the nature and functions of the advisory committee. Membership will depend upon several factors, including: (i) The advisory committee's mission; (ii) The geographic, ethnic, social, economic, or scientific impact of the advisory committee's recommendations; (iii) The types of specific perspectives required, for example, such as those of consumers, technical experts, the public at-large, academia, business, or other sectors; (iv) The need to obtain divergent points of view on the issues before the advisory committee; and (v) The relevance of State, local, or tribal governments to the development of the advisory committee's recommendations.

Member Selection Criteria

The following selection criteria will be used to evaluate nominees.

Committee Members

a. Educational background (e.g., degree in business, Information Technology, law, public policy, or engineering);

b. Professional experiences and accomplishments (e.g., projects, nature of work, or publications);

c. Current employment and membership in associations or other activities (e.g., manufacturers, academia, and civil society organizations); and

d. Subject matter expertise in the key issue the GAP FAC is examining for the current period.

e. Willingness to commit time to the Committee and demonstrated ability to work constructively and effectively on committees;

Members will serve one (1) to three (3) year terms.

Miscellaneous

The GAP FAC will meet approximately four times per year. Such meetings will be open to the public unless an appropriate authority determines, in accordance with the FACA, that a meeting shall be closed or partially closed. The Committee will meet virtually with the potential exception of one in person meeting per year.

Committee members (including the Committee Chair) will not be compensated for their services but will be allowed travel expenses, including per diem, in accordance with 5 U.S.C. 5703. Regardless of the type of committee membership appointment, any travel expenses shall be paid at rates equivalent to that allowable to Federal employees.

Nomination Submissions

Any interested person and/or organization may nominate qualified individuals for membership. Individuals are also encouraged to self-nominate. The following items must be submitted in a nomination package:

(1) A letter of nomination stating the nominee's name and organizational affiliation(s), nominee's field of expertise, specific qualifications to serve on the Committee, and a brief statement of interest;

(2) A professional resume or curriculum vitae (CV); and

(3) A short biography (no more than two paragraphs) describing the nominee's professional and educational qualifications, including a list of relevant activities and any current or previous service on advisory committees.

The letter of nomination, resume or CV, and a short biography should include the candidate's full name, address of the current organization, position title, email address, and daytime telephone number(s) of the nominee and nominator.

In preparing the letter of nomination, please describe how the nominee's background, knowledge, and experience will bring value to the work of the Committee and how these qualifications would contribute to the overall diversity of the Committee. Also, describe any previous involvement with GSA through employment, grant funding, and/or contracting sources, if applicable.

Nominations are due by August 15, 2024 and must be submitted via email to: gapfac@gsa.gov.

Jeffrey A. Koses,
Senior Procurement Executive and Acting Chief Acquisition Officer, Office of Government-wide Policy, General Services Administration.

[FR Doc. 2024-15596 Filed 7-15-24; 8:45 am]

BILLING CODE 6820-61-P